DEPARTMENT OF AGRICULTURE

Forest Service

Lake Tahoe Basin Federal Advisory Committee; Meeting

AGENCY: Forest Service, USDA.

ACTION: Notice of meeting.

SUMMARY: The Lake Tahoe Basin Federal Advisory Committee will hold a meeting on June 22, 2001 at Harrah's Lake Tahoe Special Event Center, Highway 50, Stateline NV. This Committee, established by the Secretary of Agriculture on December 15, 1998, (64 FR 2876) is chartered to provide advice to the Secretary on implementing the terms of the Federal Interagency Partnership on the Lake Tahoe Region and other matters raised by the Secretary.

DATES: The meeting will be held June 22, 2001, beginning at 9 a.m. and ending at 4:30 p.m.

ADDRESSES: The meeting will be held at Harrah's Lake Tahoe Special Event Center, Highway 50, Stateline, NV.

FOR FURTHER INFORMATION CONTACT: Maribeth Gustafson or Jeannie Stafford, Lake Tahoe Basin Management Unit, Forest Service, 870 Emerald Bay Road Suite 1, South Lake Tahoe, CA 96150, (530) 573-2642.

SUPPLEMENTARY INFORMATION: The committee will meet jointly with the Lake Tahoe Basin Executives Committees. Items to be covered on the agenda include: (1) Report on the Federal Interagency Partnership meeting and Forest Service Urban Lot Program; (2) Budget Subcommittee report; (3) Other business; (4) EPA presentation on air quality; (5) public comment; and (6) Environmental Improvement Program implementation. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: May 17, 2001.
Maribeth Gustafson,
Forest Supervisor.

[FR Doc. 01-13463 Filed 5-29-01; 8:45 am]

BILLING CODE 3410-11-M